DEPARTMENT OF ENERGY

Basic Energy Sciences Advisory Committee; Charter Renewal

AGENCY: Office of Science, Department of Energy.

ACTION: Notice of renewal.

SUMMARY: Pursuant to the Federal Advisory Committee Act, and the Code of Federal Regulations, and following consultation with the Committee Management Secretariat, General Services Administration, notice is hereby given that the Basic Energy Sciences Advisory Committee's (BESAC) charter will be renewed for a two-year period.

FOR FURTHER INFORMATION CONTACT: Dr. Linda Horton at (301) 903-3081 or email: linda.horton@science.doe.gov.

SUPPLEMENTARY INFORMATION: The Committee will provide advice and recommendations to the Office of Science on the Basic Energy Sciences program.

Additionally, the renewal of the BESAC has been determined to be essential to conduct business of the Department of Energy (DOE) and to be in the public interest in connection with the performance of duties imposed upon the DOE, by law and agreement. The Committee will continue to operate in accordance with the provisions of the Federal Advisory Committee Act, and the rules and regulations in implementation of that Act.

Signing Authority

This document of the Department of Energy was signed on July 26, 2023, by Sarah E. Butler, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 27, 2023.
Treena V. Garrett,
Federal Register Liaison Officer, U.S. Department of Energy.

[FR Doc. 2023-16258 Filed 7-31-23; 8:45 am]

BILLING CODE 6450-01-P